DEPARTMENT OF AGRICULTURE

Forest Service

Wolf Creek Ditch Special Use Permit, Okanogan and Wenatchee National Forests, Okanogan County, WA

AGENCY: Forest Service, USDA.

ACTION: Cancellation notice.

SUMMARY: On August 20, 1999, a Notice of Intent (NOI) to prepare an environmental impact statement for the Wolf Creek Ditch Special Use Permit, was published in the Federal Register (64 FR 45502). This project was originally planned as an EIS because of potential significant impacts to the Lake-Chelan Sawtooth Wilderness, an inventoried Roadless area and fish listed under the Endangered Species Act. The proponent has changed the design of the proposed project such that an environmental impact statement is not anticipated. The 1999 NOI is hereby rescinded.

FOR FURTHER INFORMATION CONTACT: Jennifer Molesworth, Project Team Leader, Methow Valley Ranger District, 24 West Chewuch Road, Winthrop, Washington 98862, telephone 509-996-4010.

Dated: March 25, 2002.
Sonny J. O'Neal,
Forest Supervisor.

[FR Doc. 02-8380 Filed 4-5-02; 8:45 am]

BILLING CODE 3410-11-M